DEPARTMENT OF THE INTERIOR

Bureau of Land Management

[UT-070-99-5101-00; J-608; UTU-77149, UTU-77164, UTU-78301, FERC Doc. No. CP00-68-000]

San Juan County, NM; La Plata, Montezuma, Dolores, and San Miguel Counties, CO; and San Juan, Grand, Emery, Carbon, Sanpete, Utah, Juab and Salt Lake Counties, UT; Draft EIS for a Refined Petroleum Products Pipeline, Natural Gas Pipelines and Utility Corridor Analysis and Plan Amendments

AGENCY: Bureau of Land Management, Interior.

ACTION: Notice of availability of Draft Environmental Impact Statement.

SUMMARY: Pursuant to Section 102(2)(C) of the National Environmental Policy Act (NEPA) of 1969, a Draft Environmental Impact Statement (DEIS) has been prepared by the Bureau of Land Management (BLM), Utah State Office. The DEIS was prepared to analyze the impacts of proposed transportation of refined petroleum products and natural gas through pipelines located on public lands administered by BLM, National Forest System lands and State and private lands in northwest New Mexico, southwest Colorado, and southeast to north-central Utah. In addition, the draft EIS analyzes utility corridors across the Manti-LaSal and Uinta National Forests which may or may not expand the existing designated corridors and/or identify other corridors. This analysis may result in Forest Plan amendments to the Manti-LaSal and Uinta National Forest Land and Resource Management Plans. The Federal Energy Regulatory Commission (FERC) and United States Forest Service, Manti-LaSal, San Juan and Uinta National Forests, are Cooperating Agencies in accordance with Title 40, Code of Federal Regulations, Section 1501.6. Public reading copies of the DEIS will be available for review at the following locations:

• Salt Lake City, Utah—209 East 500 South

• West Valley City, Utah—2880 West 3650 South

• Payson, Utah—439 West Utah Ave

• Nephi, Utah—22 East 100 North

• Price, Utah—159 East Main

• Moab, Utah—Grand Co. Library, 25 South 100 East

• Durango, Colorado—Durango Public Library, 1188 Second Avenue

• Dolores, Colorado—Dolores Public Library, PO Box 847, Dolores, CO

• Farmington, New Mexico—Farmington Public Library, 100 West Broadway.

In addition, a limited number of copies of the document will be available at the following BLM and Forest Service Offices:

• Bureau of Land Management, Utah State Office, 324 South State, Salt Lake City, Utah

• Uinta National Forest, 88 West 100 North, Provo, Utah

• Filmore Field Office, 35 East 500 North, Filmore, Utah

• Bureau of Land Management, Price Field Office, 125 South, 600 West, Price, Utah

• Manti La-Sal National Forest, 599 West Price River Drive, Price, Utah

• Bureau of Land Management, Moab Field Office, 82 East Dogwood Road, Moab, Utah

• Bureau of Land Management, Monticello Field Office, 435 North Main Street, Monticello, Utah

• Bureau of Land Management, Durango Field Office, 15 Burnett Court, Durango, Colorado

• San Juan National Forest, 100 North Sixth Street, Dolores, Colorado

• Bureau of Land Management, Farmington Field Office, 1235 La Plata Highway.

DATES: Written comments must be post marked on or before April 16, 2001, or 45 days after date of publication in the Federal Register, whichever is later.

Public meetings will be held at the following locations and dates:

• March 14, 2001, West Valley City, Family Fitness Center, Community Room A, 5415 West, 3100 South, West Valley City, Utah

• March 19, 2001, Senior Citizens Center, 450 East, 100 North, Moab, Utah

• March 20, 2001, Double Tree Inn, 501 Camino Del Rio, Durango, Colorado, and Anasazi Heritage Center, 27501 Highway 184, Delores, Colorado

• March 22, 2001, Farmington Civic Center, (Room B) 200 West Arrington, Farmington, New Mexico

• March 27, 2001, Juab County High School, 802 North 650 East, Nephi, Utah

• March 28, 2001, Payson City Hall, 439 West Utah Ave, Payson, Utah

• March 29, 2001, Association of Governments and Small Business Development Center, 375 South Carbon Ave., Price, Utah

All meetings will begin at 7:00 pm. BLM reserves the right to limit presentations based on public attendance. Only written comments will be made part of the official record. Written comments may be submitted at the meetings or may be mailed to the address below prior to the end of the comment period.

Comments, including names and street addresses of respondents will be available for public review at the BLM Utah State Office and will be subject to disclosure under the Freedom of Information Act (FOIA). They may be published as part of the final EIS and other related documents. Individual respondents may request confidentiality. If you wish to withhold your name or street address from public review and disclosure under the FOIA, you must state this prominently at the beginning of your written comment. Such requests will be honored to the extent allowed by law. All submissions from organizations or businesses, will be made available for public inspection in their entirety.

ADDRESSES: Written comments should be sent to LaVerne Steah, Project Manager, Bureau of Land Management, Utah State Office, P.O. Box 45155, Salt Lake City, UT 84145-0155 or at the project website: QWK-EIS.ORG. Copies of the DEIS can be obtained through the project web site, or by written request to the above address (hard copy or CD). An executive summary including maps will be mailed to all individuals and organizations on the project mailing list.

FOR FURTHER INFORMATION Please contact Ms. LaVerne Steah at the above address or phone: (801) 539-4114 or e-mail: LaVerne_steah@ut.blm.gov.

SUPPLEMENTARY INFORMATION: Three proponents (Williams Pipeline Company, Questar Pipeline Company and Kerne River Gas Transmission Company) filed right-of-way applications with the Bureau of Land Management in 1998 and 1999 to construct and operate petroleum products and natural gas pipelines and ancillary facilities on public lands administered by the Bureau of Land Management, National Forest System Lands administered by the United States Forest Service (USFS), and private and state owned lands in the states of New Mexico, Colorado, and Utah. The three projects are independent of each other (each project could be constructed and operated regardless of whether the other two projects are approved). The three projects were analyzed together because they would share common utility corridors across the Manti-LaSal and Uinta National Forests and would cause cumulative impacts.

The BLM and the USFS examined alternative natural gas and petroleum transportation methods and several alternative pipeline route segments to address concerns about (1) potential petroleum products leaks and spill effects on natural resources, water and people; (2) natural gas leaks and failure effects on natural resources and people, and; (3) effects on the character of USFS inventoried roadless and unroaded areas. Two major (30 miles or longer) route alternatives, and two short (5 miles or less) route variations were carried forward in the analysis in addition to the proposed action and the no action alternative. Also, as part of the proposed action is a proposal to amend one or more forest plans following the 1982 regulations (36 CFR, part 219). Public scoping for these projects was completed in two phases. An Initial Notice of Intent to prepare an EIS for these projects was published in the Federal Register on April 28, 1999. Nine public meetings were held in Colorado and Utah. An amended Notice of Intent was published on April 19, 2000, as a result of a change in the project scope. This established a new public scoping period between April 19, 2000 and June 9, 2000, during which two additional scoping meetings were held in Utah.

Dated: February 12, 2001.
Sally Wisely,
Utah State Director.

[FR Doc. 01-4467 Filed 2-22-01; 8:45 am]

BILLING CODE 4310-DQ-P